DEPARTMENT OF COMMERCE

Foreign-Trade Zones Board

[Docket 16-2000]

Foreign-Trade Zone 3—San Francisco, California Area; Application for Expansion

An application has been submitted to the Foreign-Trade Zones (FTZ) Board (the Board) by the San Francisco Port Commission, grantee of Foreign-Trade Zone 3, requesting authority to expand its zone to include the San Francisco International Airport fuel system and related facilities, within the San Francisco Customs port of entry. The application was submitted pursuant to the provisions of the Foreign-Trade Zones Act, as amended (19 U.S.C. 81a-81u), and the regulations of the Board (15 CFR part 400). It was formally filed on April 28, 2000.

FTZ 3 was approved on March 10, 1948 (Board Order 16, 13 F.R. 1459, 3/19/48). The zone project currently consists of 225,000 square feet at Piers 19 and 23 on the Embarcadero in San Francisco.

The applicant is now requesting authority to expand the general-purpose zone to include the jet fuel storage and distribution system (261 acres) at the San Francisco International Airport, which consists of the airport hydrant and storage facilities, two adjacent off-Airport terminals, a pipeline and two offsite terminals, as follows: Proposed Site 2: the jet fuel storage and delivery facilities at the San Francisco International Airport; the Chevron jet fuel tank farm (8.5 acres), the PS Trading tank farm (1 acre) and related pipelines between the tanks farms; jet fuel transmission pipelines and the terminal and cargo area hydrant pipelines; the petroleum and jet fuel storage facilities (26 acres) at the Brisbane Terminal (owned by SFPP, L.P.), 950 Tunnel Avenue, Brisbane; and, the petroleum and jet fuel storage facilities (7 acres) at the Equilon Terminal (owned by Equilon Enterprises LLC), 135 North Access Road, South San Francisco, including the 4.7 mile segment of the SFPP jet fuel pipeline from the two terminals to the airport; Proposed Site 3: (55 acres) at the petroleum facilities of Selby Terminal (owned by Shore Terminals LLC), 90 San Pablo Avenue, Crockett; and, Proposed Site 4 (164 acres) at the petroleum facilities of Martinez Terminal (owned by Shore Terminals LLC), 2801 Waterfront Road, Martinez. The City of San Francisco owns fuel facilities at the airport and the land on which the Chevron tank farm and the PST tank farms are located (the companies own the improvements). In addition to the storage of jet fuel, the Brisbane, Equilon, Selby and Martinez Terminals may also be used for the receipt and storage of other petroleum products under zone procedures.

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is July 10, 2000. Rebuttal comments in response to material submitted during the foregoing period may be submitted during the subsequent 15-day period (to July 24, 2000).

A copy of the application and accompanying exhibits will be available for public inspection at each of the following locations:

U.S. Department of Commerce, Export Assistance Center, 250 Montgomery Street, 14th Floor, San Francisco, CA 94104-3406

Office of the Executive Secretary, Foreign-Trade Zones Board, Room 4008, U.S. Department of Commerce, 14th & Pennsylvania Avenue, NW., Washington, DC 20230

Dated: May 1, 2000.
Dennis Puccinelli,
Acting Executive Secretary.

[FR Doc. 00-11738 Filed 5-9-00; 8:45 am]

BILLING CODE 3510-DS-P